DEPARTMENT OF HOMELAND SECURITY

Federal Emergency Management Agency

[Docket ID FEMA-2015-0001]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: January 16, 2015.
Roy E. Wright,
Deputy Associate Administrator for Mitigation, Department of Homeland Security, Federal Emergency Management Agency.

State and county | Location and case No. | Chief executive officer of community | Community map repository | Effective date of modification | Community No.
Alabama: Tuscaloosa (FEMA Docket No.: B-1442) | City of Tuscaloosa (14-04-3253P) | The Honorable Walter Maddox, Mayor, City of Tuscaloosa, 2201 University Boulevard, Tuscaloosa, AL 35401 | Engineering Department, 2201 University Boulevard, Tuscaloosa, AL 35401 | Nov. 19, 2014 | 010203
Arizona:
Mohave (FEMA Docket No.: B-1442) | Unincorporated areas of Mohave County (14-09-0834P) | The Honorable Gary Watson, Chairman, Mohave County Board of Supervisors, 700 West Beale Street, Kingman, AZ 86401 | Mohave County Administration Building, 700 West Beale Street, Kingman, AZ 86401 | Nov. 20, 2014 | 155166
Santa Cruz (FEMA Docket No.: B-1442) | City of Nogales (13-09-1781P) | The Honorable Arturo R. Garino, Mayor, City of Nogales, 777 North Grand Avenue, Nogales, AZ 85621 | Public Works Department, 1450 North Hohokam Drive, Nogales, AZ 85621 | Nov. 12, 2014 | 040091
California: Napa (FEMA Docket No.: B-1442) | City of Napa (14-09-2231P) | The Honorable Jill Techel, Mayor, City of Napa, P.O. Box 660, Napa, CA 94559 | Public Works Department, 1600 1st Street, Napa, CA 94559 | Nov. 12, 2014 | 060207
Florida:
Broward (FEMA Docket No.: B-1435) | City of Fort Lauderdale (14-04-1663P) | The Honorable John P. “Jack” Seiler, Mayor, City of Fort Lauderdale, 100 North Andrews Avenue, Fort Lauderdale, FL 33301 | City Hall, 100 North Andrews Avenue, Fort Lauderdale, FL 33301 | Nov. 6, 2014 | 125105
Polk (FEMA Docket No.: B-1435) | Unincorporated areas of Polk County (14-04-2689P) | The Honorable R. Todd Dantzler, Chairman, Polk County Board of Commissioners, P.O. Box 9005, Bartow, FL 33831 | Polk County Engineering Division, 330 West Church Street, Bartow, FL 33831 | Nov. 6, 2014 | 120261
Sarasota (FEMA Docket No.: B-1435) | City of Sarasota (14-04-3830P) | The Honorable Willie Charles Shaw, Mayor, City of Sarasota, 1565 1st Street, Sarasota, FL 34236 | City Hall, 1565 1st Street, Sarasota, FL 34236 | Oct. 22, 2014 | 125150
Georgia:
Columbia (FEMA Docket No.: B-1435) | Unincorporated areas of Columbia County (13-04-7901P) | The Honorable Ron C. Cross, Chairman, Columbia County Board of Commissioners, 630 Ronald Regan Drive, Building B, Evans, GA 30809 | Columbia County Engineering Division, 630 Ronald Regan Drive, Building A, Evans, GA 30809 | Nov. 10, 2014 | 130059
Columbia (FEMA Docket No.: B-1435) | Unincorporated areas of Columbia County (13-04-8301P) | The Honorable Ron C. Cross, Chairman, Columbia County Board of Commissioners, 630 Ronald Regan Drive, Building B, Evans, GA 30809 | Columbia County Engineering Division, 630 Ronald Regan Drive, Building A, Evans, GA 30809 | Nov. 6, 2014 | 130059
Richmond (FEMA Docket No.: B-1442) | Augusta-Richmond County (14-04-2417P) | The Honorable Deke S. Copenhaver, Mayor, Augusta-Richmond County, 530 Greene Street, Augusta, GA 30901 | Augusta-Richmond County Planning and Development Department, 525 Telfair Street, Augusta, GA 30901 | Nov. 14, 2014 | 130158
Kentucky: Fayette (FEMA Docket No.: B-1442) | Lexington-Fayette Urban County Government (13-04-1223P) | The Honorable Jim Gray, Mayor, Lexington-Fayette Urban County Government, 200 East Main Street, Lexington, KY 40507 | Lexington-Fayette Urban County Government Planning Division, 101 East Vine Street, Lexington, KY 40507 | Nov. 24, 2014 | 210067
New York:
Orange (FEMA Docket No.: B-1428) | Town of New Windsor (13-02-1014P) | The Honorable George A. Green, Supervisor, Town of New Windsor, 555 Union Avenue, New Windsor, NY 12553 | Town Hall, 555 Union Avenue, New Windsor, NY 12553 | Nov. 5, 2014 | 360628
Rockland (FEMA Docket No.: B-1428) | Town of Clarkstown (13-02-1013P) | The Honorable Alexander J. Gromack, Supervisor, Town of Clarkstown, 10 Maple Avenue, New City, NY 10956 | Town Hall, 10 Maple Avenue, New City, NY 10956 | Nov. 19, 2014 | 360679
North Carolina:
Macon (FEMA Docket No.: B-1435) | Unincorporated areas of Macon County (14-04-3043P) | The Honorable Kevin Corbin, Chairman, Macon County Board of Commissioners, 5 West Main Street, Franklin, NC 28734 | Macon County Planning Department, 5 West Main Street, Franklin, NC 28734 | Oct. 16, 2014 | 370150
Guilford (FEMA Docket No.: B-1423) | City of Greensboro (14-04-4489P) | The Honorable Nancy Vaughn, Mayor, City of Greensboro, P.O. Box 3136, Greensboro, NC 27402 | Water Resources Department, Stormwater Management Division, Planning and Engineering Section, 2602 South Elm-Eugene Street, Greensboro, NC 27406 | Aug. 12, 2014 | 375351
South Carolina:
Charleston (FEMA Docket No.: B-1442) | Town of Mount Pleasant (14-04-3646P) | The Honorable Linda Page, Mayor, Town of Mount Pleasant, 100 Ann Edwards Lane, Mount Pleasant, SC 29464 | Town Hall, 100 Ann Edwards Lane, Mount Pleasant, SC 29464 | Nov. 20, 2014 | 455417
Charleston (FEMA Docket No.: B-1435) | Town of Mount Pleasant (14-04-4488P) | The Honorable Linda Page, Mayor, Town of Mount Pleasant, 100 Ann Edwards Lane, Mount Pleasant, SC 29464 | Town Hall, 100 Ann Edwards Lane, Mount Pleasant, SC 29464 | Nov. 4, 2014 | 455417
Charleston (FEMA Docket No.: B-1442) | Unincorporated areas of Charleston County (14-04-3646P) | The Honorable Teddie E. Pryor, Sr., Chairman, Charleston County Council, 2700 Crestline Drive, North Charleston, SC 29405 | Charleston County Building Services Department, 4045 Bridge View Drive, North Charleston, SC 29405 | Nov. 20, 2014 | 455413
Charleston (FEMA Docket No.: B-1435) | Unincorporated areas of Charleston County (14-04-4488P) | The Honorable Teddie E. Pryor, Sr., Chairman, Charleston County Council, 2700 Crestline Drive, North Charleston, SC 29405 | Charleston County Building Services Department, 4045 Bridge View Drive, North Charleston, SC 29405 | Nov. 4, 2014 | 455413
South Dakota:
Custer (FEMA Docket No.: B-1442) | Town of Hermosa (14-08-0158P) | The Honorable Linda Kramer, President, Town of Hermosa Board of Trustees, P.O. Box 298, Hermosa, SD 57744 | Planning and Zoning Commission, 230 Main Street, Hermosa, SD 57744 | Nov. 13, 2014 | 460230
Custer (FEMA Docket No.: B-1442) | Unincorporated areas of Custer County (14-08-0158P) | The Honorable Phil Lampert, Chairman, Custer County Board of Commissioners, 420 Mount Rushmore Road, Custer, SD 57730 | Custer County Department of Planning and Economic Development, 420 Mount Rushmore Road, Custer, SD 57730 | Nov. 13, 2014 | 460018

[FR Doc. 2015-02505 Filed 2-6-15; 8:45 am]

BILLING CODE 9110-12-P